DEPARTMENT OF DEFENSE

Office of the Secretary

Defense Partnership Council Meeting

AGENCY: Department of Defense.

ACTION: Notice of meeting.

SUMMARY: The Department of Defense (DoD) announces a meeting of the Defense Partnership Council. Notice of this meeting is required under the Federal Advisory Committee Act. This meeting is open to the public. The agenda will include: an update on the Blue Collar Wage Setting project and other topics related to the enhancement of Labor-Management partnerships throughout DoD.

DATES: The meeting is to be held on November 9, 2000, in room 1E801, Conference Room 7, the Pentagon, from 1 p.m. until 3 p.m. Comments should be received by November 1, 2000, in order to be considered at the November 9 meeting.

ADDRESSES: We invite persons and organizations to submit written comments or recommendations. Mail or deliver your comments or recommendations to Ben James at the address shown below. Seating is limited and available on a first-come, first-serve basis. Individuals wishing to attend who do not possess an appropriate Pentagon building pass should call the below listed telephone number to obtain instructions for entry into the Pentagon. Handicapped individuals wishing to attend should also call the below listed telephone number to obtain appropriate accommodations.

FOR FURTHER INFORMATION CONTACT: Ben James, Chief, Labor Relations Branch, Field Advisory Services Division, Defense Civilian Personnel Management Service, 1400 Key Blvd., Suite B-200, Arlington, VA 22209-5144, (703) 696-6301, ext. 730.

Dated: October 5, 2000.
L.M. Bynum,
Alternate OSD Federal Register Liaison Officer, Department of Defense.

[FR Doc. 00-26168 Filed 10-11-00; 8:45 am]

BILLING CODE 5001-10-M